NUCLEAR REGULATORY COMMISSION

[NRC-2012-0276]

Appointments to Performance Review Boards for Senior Executive Service

AGENCY: Nuclear Regulatory Commission.

ACTION: Appointment to Performance Review Boards for Senior Executive Service.

SUMMARY: The U.S. Nuclear Regulatory Commission (NRC) has announced the following appointments to the NRC's Performance Review Boards (PRB) responsible for making recommendations to the appointing and awarding authorities on performance appraisal ratings and performance awards for Senior Executives and Senior Level employees:

R.W. Borchardt, Executive Director for Operations.

Margaret M. Doane, General Counsel.

Darren B. Ash, Deputy Executive Director for Corporate Management, Office of the Executive Director for Operations.

Cynthia A. Carpenter, Director, Office of Administration.

James E. Dyer, Chief Financial Officer.

Michael R. Johnson, Deputy Executive Director for Reactor and Preparedness Programs, Office of the Executive Director for Operations.

Victor M. McCree, Regional Administrator, Region II.

Mark A. Satorius, Director, Office of Federal and State Materials and Environmental Management Programs.

Glenn M. Tracy, Director, Office of New Reactors.

Annette L. Vietti-Cook, Secretary of the Commission, Office of the Secretary.

Michael F. Weber, Deputy Executive Director for Materials, Waste, Research, State, Tribal, and Compliance Programs, Office of the Executive Director for Operations.

James T. Wiggins, Director, Office of Nuclear Security and Incident Response.

The following individuals will serve as members of the NRC's PRB Panel that was established to review appraisals and make recommendations to the appointing and awarding authorities for NRC's PRB members:

Eric J. Leeds, Director, Office of Nuclear Reactor Regulation.

Marvin L. Itzkowitz, Associate General Counsel for Hearings, Enforcement, and Administration, Office of the General Counsel.

Catherine Haney, Director, Office of Nuclear Material Safety and Safeguards.

All appointments are made pursuant to Section 4314 of Chapter 43 of Title 5 of the United States Code.

DATES: Effective Date: November 23, 2012.

FOR FURTHER INFORMATION CONTACT: Secretary, Executive Resources Board, U.S. Nuclear Regulatory Commission, Washington, DC 20555, (301) 492-2076.

Dated at Bethesda, Maryland, this 23rd day of October 2012.
For the U.S. Nuclear Regulatory Commission.
Miriam L. Cohen,
Secretary, Executive Resources Board.

[FR Doc. 2012-28426 Filed 11-21-12; 8:45 am]

BILLING CODE 7590-01-P